EXPORT-IMPORT BANK OF THE U.S.

[Public Notice 123]

Agency Information Collection Activities: Final Collection; Comment Request

AGENCY: Export-Import Bank of the U.S.

ACTION: Submission for OMB review and comments request.

Form Title: Application for Financial Institution Short Term Single Buyer Insurance.

SUMMARY: The Export-Import Bank of the United States (Ex-Im Bank), as a part of its continuing effort to reduce paperwork and respondent burden, invites the general public and other Federal Agencies to comment on the proposed information collection, as required by the Paperwork Reduction Act of 1995. Our customers will be able to submit this form on paper or electronically. Legal certifications for this form have been updated.

DATES: Comments should be received on or before August 19, 2009 to be assured of consideration.

ADDRESSES: Direct all comments to Office of Management and Budget, Office of Information and Regulatory Affairs, 725 17th Street, NW., Washington, DC 20038, OMB Number 3048-0016.

SUPPLEMENTARY INFORMATION: Titles and Form Number: EIB 92-41 Application for Financial Institution Short Term Single Buyer Insurance.

OMB Number: 3048-0019.

Type of Review: Regular.

Need and Use: The information requested enables the financial institution applicant to provide Ex-Im Bank with the information necessary to obtain legislatively required assurance of repayment and fulfills other statutory requirements.

Affected Public: This form affects entities involved in the export of U.S. goods and services.

Annual Number of Respondents: 300.

Estimated Time per Respondent: 6 hours.

Government Annual Burden Hours: 1,800.

Frequency of Reporting or Use: as needed—each time a financial institution seeks to Obtain Ex-Im Bank short term insurance for a single-buyer export sale.

Sharon A. Whitt,
Agency Clearance Officer.

[FR Doc. E9-17166 Filed 7-17-09; 8:45 am]

BILLING CODE 6690-01-P